DEPARTMENT OF HOMELAND SECURITY

Coast Guard

[Docket No. USCG-2013-0966]

Distant Water Tuna Fleet Vessels—Manning Exemption Guidance

AGENCY: Coast Guard, DHS.

ACTION: Notice of availability and request for comments.

SUMMARY: Pursuant to section 421 of the Coast Guard and Marine Transportation Act (CGMTA) of 2006, section 904 of the 2010 Coast Guard Authorization Act, and section 701 of the CGMTA of 2012, the Coast Guard announces the availability of CG-CVC Policy Letter 13-04, Distant Water Tuna Fleet (DWTF) Vessels Manning Exemption Guidance. The Coast Guard also requests public comments on the manning exemption criteria and eligibility, and on the process for obtaining a manning exemption approval letter.

DATES: Comments and related material must either be submitted to our online docket via http://www.regulations.gov on or before February 13, 2014 or reach the Docket Management Facility by that date.

ADDRESSES: You may submit comments identified by docket number USCG-2013-0966 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, call or email Jonathan G. Wendland, Fishing Vessel Safety Division (CG-CVC-3), U.S. Coast Guard; telephone 202-372-1245, email jonathan.g.wendland@uscg.mil. If you have questions on viewing or submitting material to the docket, call Barbara Hairston, Program Manager, Docket Operations, telephone 202-366-9826.

SUPPLEMENTARY INFORMATION: Public Participation and Request for Comments: We encourage you to submit comments and related material on the Distant Water Tuna Fleet (DWTF) Vessels Manning Exemption Guidance. All comments received will be posted, without change, to http://www.regulations.gov and will include any personal information you have provided.

Submitting comments: If you submit a comment, please include the docket number for this notice (USCG-2013-0966) and provide a reason for each suggestion or recommendation. You may submit your comments and material online, or by fax, mail or hand delivery, but please use only one of these means. We recommend that you include your name and a mailing address, an email address, or a telephone number in the body of your document so that we can contact you if we have questions regarding your submission.

To submit your comment online, go to http://www.regulations.gov and type “USCG-2013-0966” in the “Keyword” box. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the comments and related material: To view the comments, the policy letter, or other documents or references mentioned in this notice, go to http://www.regulations.gov and click on the “read comments” box, which will then become highlighted in blue. In the “Keyword” box insert “USCG-2013-0966” and click “Search.” Click the “Open Docket Folder” in the “Actions” column. If you do not have access to the internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Background and Purpose

Section 421 of the Coast Guard and Maritime Transportation Act of 2006 (Pub. L. 109-241, 120 Stat. 547) authorized the distant water tuna fleet (DWTF; certain United States-documented purse seine vessels fishing exclusively for highly migratory species like tuna) to use foreign citizens, except for the master, to meet manning requirements if no United States citizens are readily available. This “distant water tuna fleet manning exemption” was only applicable to vessels operating in and out of American Samoa. That authorization was for a 48-month period and ended on July 11, 2010.

Section 904 of the Coast Guard Authorization Act of 2010 (Pub. L. 111-281, 124 Stat. 3011), reauthorized the DWTF manning exemption until the end of 2012. This reauthorized exemption also only applied to vessels operating in and out of American Samoa. In addition, the 2010 legislation added a safety examination requirement such that a vessel's owner/operator may not employ and embark a foreign citizen to meet a manning requirement unless the vessel has successfully completed a safety examination within the previous 12 months by a qualified commercial fishing safety examiner. The reauthorization retained the restriction that a foreign officer engaged to fill a required position must hold a valid license or certificate issued in accordance with International Convention on Standards of Training, Certification and Watchkeeping for Seafarers (STCW) standards and by an authority recognized by the Coast Guard.

Section 701 of the Coast Guard and Maritime Transportation Act of 2012 (Pub. L. 112-213, 126 Stat. 1579) again re-authorized the DWTF manning exemption, this time for as long as the U.S. remains party to the South Pacific Tuna Treaty, under which DWTF vessels are licensed to fish. The 2012 re-authorization extended the exemption to vessels operating in and out of Guam, as well as those operating in and out of American Samoa. Further, it provided that a foreign citizen making use of the exemption may possess either STCW credentials or foreign credentials that are equivalent to Coast Guard-issued credentials for the position the foreign citizen holds.

We have issued CG-CVC Policy Letter 13-04 to provide guidance to Coast Guard field personnel and the DWTF on the changes to the DWTF manning exemption eligibility requirements pursuant to the 2012 CGMTA. This Policy Letter reiterates the purpose of the guidance, the background of and changes to the manning exemption authorizations, the requirements for vessel safety examinations, and the general guidance for requesting and issuing a manning exemption approval letter. CG-CVC Policy Letter 13-04 expands on CG-543 Policy Letter 11-05 (May 18, 2011) by adding definitions, a short discussion about the recent history and operations of the DWTF, a discussion on compliance and enforcement of the manning exemption, how the 14th Coast Guard District will manage the approval letters, what is required of a foreign mariner and administration for credential equivalency, and procedures and requirements for annual safety examinations.

We request your comments for consideration as the Coast Guard implements the guidance in CG-CVC Policy Letter 13-04 which is intended to clarify the requirements enabling a DWTF vessel to request and be approved to exercise the manning exemption afforded by law.

Authority

This notice is issued under authority of 5 U.S.C. 552(a).

Dated: January 7, 2014.
J.C. Burton,
Captain, U.S. Coast Guard, Director of Inspections and Compliance.

[FR Doc. 2014-00506 Filed 1-13-14; 8:45 am]

BILLING CODE 9110-04-P